DEPARTMENT OF ENERGY

Federal Energy Regulatory Commission

[Project No. 4656-020]

Boise-Kuna Irrigation District, Nampa & Meridian Irrigation District, New York; Irrigation District, Wilder Irrigation District, and Big Bend Irrigation District; Notice of Availability of Environmental Assessment

May 9, 2008.

An environmental assessment (EA) is available for public review. The EA was prepared for an application filed by Boise-Kuna Irrigation District, et al. (licensee) on August 1, 2007, requesting Commission approval of: (1) An extension of time for the commencement of project construction to December 13, 2009, pursuant to Public Law 109-383; (2) changes to dates or time periods specified in license articles relating to actions that would be affected by an amendment; and (3) amendments to project design. The licensee proposes to install two 7.5-megawatt (MW) generating units with a total installed capacity of 15 MW, instead of two, 30-MW generating units with a total installed capacity of 60 MW, as authorized in the March 27, 1989 Order Issuing License. The licensee also proposes to decrease the length of the licensed project's transmission line. Finally, the licensee requests deletion or revision of certain license articles that are related to the proposed design changes. The project would be located at the U.S. Bureau of Reclamation's (Reclamation) existing Arrowrock Dam on the Boise River, in Elmore and Ada Counties, Idaho. Parts of the project would occupy lands managed by Reclamation, the U.S. Corps of Engineers, and the U.S. Forest Service within Boise National Forest.

The EA concludes that the proposed amendment, with staff-recommended mitigation measures, would not constitute a major federal action significantly affecting the quality of the human environment.

Any comments should be filed within 30 days from the date of this notice and should be addressed to Kimberly D. Bose, Secretary, Federal Energy Regulatory Commission, 888 First Street, NE., Washington, DC 20426. A copy of the EA is available for review at the Commission in the Public Reference Room, or it may be viewed on the Commission's Web site at http://www.ferc.gov using the e-Library link. Enter the docket number “P-4656” in the docket number field to access the document. For assistance, call (202) 502-8222 or (202) 502-8659 (for TTY).

For further information regarding this notice, please contact B. Peter Yarrington at (202) 502-6129.

Kimberly D. Bose,
Secretary.

[FR Doc. E8-11027 Filed 5-15-08; 8:45 am]

BILLING CODE 6717-01-P